DEPARTMENT OF ENERGY

Federal Energy Regulatory Commission

Combined Notice of Filings #1

Take notice that the Commission received the following electric rate filings:

Docket Numbers: ER22-1697-003.

Applicants: Southwest Power Pool, Inc.

Description: Compliance filing: Order No. 2222 Compliance Filing in Response to March 2024 Order to be effective 12/31/9998.

Filed Date: 12/13/24.

Accession Number: 20241213-5144.

Comment Date: 5 p.m. ET 1/3/25.

Docket Numbers: ER24-2037-001.

Applicants: Tucson Electric Power Company.

Description: Compliance filing: Order Nos. 2023 and 2023-A Second Compliance Filing to be effective 8/15/2024.

Filed Date: 12/13/24.

Accession Number: 20241213-5068.

Comment Date: 5 p.m. ET 1/3/25.

Docket Numbers: ER25-699-000.

Applicants: Arizona Public Service Company.

Description: § 205(d) Rate Filing: Service Agreement No. 429—E&P Agreement w/RWE to be effective 11/12/2024.

Filed Date: 12/12/24.

Accession Number: 20241212-5228.

Comment Date: 5 p.m. ET 1/2/25.

Docket Numbers: ER25-700-000.

Applicants: Southwest Power Pool, Inc.

Description: § 205(d) Rate Filing: 4268R1 Blue Valley Grid GIA to be effective 12/3/2024.

Filed Date: 12/13/24.

Accession Number: 20241213-5023.

Comment Date: 5 p.m. ET 1/3/25.

Docket Numbers: ER25-701-000.

Applicants: PJM Interconnection, L.L.C.

Description: § 205(d) Rate Filing: Original NSA, Service Agreement No. 7432; AF1-140 to be effective 2/12/2025.

Filed Date: 12/13/24.

Accession Number: 20241213-5034.

Comment Date: 5 p.m. ET 1/3/25.

Docket Numbers: ER25-702-000.

Applicants: PJM Interconnection, L.L.C.

Description: § 205(d) Rate Filing: Amendment to WMPA, Service Agreement No. 6082; Queue No. AF1-039 to be effective 2/12/2025.

Filed Date: 12/13/24.

Accession Number: 20241213-5043.

Comment Date: 5 p.m. ET 1/3/25.

Docket Numbers: ER25-703-000.

Applicants: Southwest Power Pool, Inc.

Description: § 205(d) Rate Filing: 1628R27 Western Farmers Electric Cooperative NITSA NOAs to be effective 12/1/2024.

Filed Date: 12/13/24.

Accession Number: 20241213-5050.

Comment Date: 5 p.m. ET 1/3/25.

Docket Numbers: ER25-704-000.

Applicants: Amite Solar, LLC.

Description: § 205(d) Rate Filing: Application for MBR Authorization to be effective 2/12/2025.

Filed Date: 12/13/24.

Accession Number: 20241213-5102.

Comment Date: 5 p.m. ET 1/3/25.

Docket Numbers: ER25-705-000.

Applicants: Green River Solar, LLC.

Description: § 205(d) Rate Filing: Application for MBR Authorization to be effective 2/12/2025.

Filed Date: 12/13/24.

Accession Number: 20241213-5104.

Comment Date: 5 p.m. ET 1/3/25.

Docket Numbers: ER25-706-000.

Applicants: PJM Interconnection, L.L.C.

Description: § 205(d) Rate Filing: Original GIA Service Agreement No. 7433; Project Identifier No. AF2-306 to be effective 11/15/2024.

Filed Date: 12/13/24.

Accession Number: 20241213-5108.

Comment Date: 5 p.m. ET 1/3/25.

Docket Numbers: ER25-707-000.

Applicants: Taunton Municipal Lighting Plant Hudson Light & Power Department North Attleborough Electric Department.

Description: Petition for Declaratory Order of Taunton Municipal Lighting Plant Hudson Light & Power Department North Attleborough Electric Department.

Filed Date: 12/2/24.

Accession Number: 20241202-5311.

Comment Date: 5 p.m. ET 12/23/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 13, 2024.
Debbie-Anne A. Reese,
Secretary.

[FR Doc. 2024-30279 Filed 12-18-24; 8:45 am]

BILLING CODE 6717-01-P